FEDERAL MARITIME COMMISSION

Notice of Agreement Filed

The Commission hereby gives notice of the filing of the following agreement under the Shipping Act of 1984. Interested parties may submit comments on the agreements to the Secretary, Federal Maritime Commission, Washington, DC 20573, within ten days of the date this notice appears in the Federal Register. Copies of the agreement are available through the Commission's Web site (www.fmc.gov) or by contacting the Office of Agreements at (202) 523-5793 or tradeanalysis@fmc.gov.

Agreement No.: 012177.

Title: MSC/Maersk Line U.S.-Panama Space Charter Agreement.

Parties: Mediterranean Shipping Company S.A. and A.P. Moller-Maersk A/S, trading under the name Maersk Line.

Filing Party: Wayne R. Rohde, Esquire; Cozen O'Connor; 1627 I Street NW., Suite 1100; Washington, DC 20006-4007.

Synopsis: The agreement authorizes MSC to charter space to Maersk Line in the trade between ports in Panama and ports on the U.S. East and Gulf Coasts.

By Order of the Federal Maritime Commission.
Dated: June 22, 2012.
Karen V. Gregory,
Secretary.

[FR Doc. 2012-15709 Filed 6-26-12; 8:45 am]

BILLING CODE P